DEPARTMENT OF THE TREASURY

Agency Information Collection Activities; Proposed Collection; Comment Request; RESTORE Act Grants

AGENCY: Departmental Offices, Department of the Treasury.

ACTION: Notice and request for comments.

SUMMARY: The Department of the Treasury, as part of its continuing effort to reduce paperwork and respondent burden, invites the general public and other Federal agencies to comment on revisions to an existing information collection, as required by the Paperwork Reduction Act of 1995. The Office of the Fiscal Assistant Secretary, within the Department of the Treasury, is soliciting comments concerning the application, reports, and recordkeeping for the Direct Component and the Centers of Excellence Research Grants Programs under the Resources and Ecosystems Sustainability, Tourist Opportunities, and Revived Economies of the Gulf Coast States Act of 2012 (RESTORE Act). The information collections contained in this final rule are being added to the information collection for RESTORE Act grants, including Treasury's final rule titled Regulation Regarding Nondiscrimination on the Basis of Race, Color, or National Origin in Programs or Activities Receiving Federal Financial Assistance from the Department of the Treasury, which implements Title VI of the Civil Rights Act of 1964.

DATES: Written comments must be received on or before August 1, 2022 to be assured of consideration.

ADDRESSES: Send comments regarding the burden estimate, or any other aspect of the information collection, including suggestions for reducing the burden, by electronic mail to restoreact@treasury.gov.

FOR FURTHER INFORMATION CONTACT: Requests for additional information should be directed to Bridget Cotti-Rausch at 202-923-0467 in the Office of Gulf Coast Restoration, by electronic mail to restoreact@treasury.gov, or viewing the entire information collection request at https://home.treasury.gov/policy-issues/financial-markets-financial-institutions-and-fiscal-service/restore-act.

SUPPLEMENTARY INFORMATION:

Title: Application, Reports, and Recordkeeping for the Direct Component and the Centers of Excellence Research Grants Program under the RESTORE Act.

OMB Control Number: 1505-0250.

Type of Review: Revision of a currently approved collection.

Description: The Department of the Treasury administers the Direct Component and the Centers of Excellence Research Grants Program authorized under the RESTORE Act. Treasury awards grants for these two programs from proceeds in connection with administrative and civil penalties paid after July 6, 2012, under the Federal Water Pollution Control Act relating to the Deepwater Horizon Oil Spill, and deposited into the Gulf Coast Restoration Trust Fund. Direct Component grants are awarded to the States of Alabama, Louisiana, Mississippi, and Texas, and 23 Florida counties and 20 Louisiana parishes. Centers of Excellence grants are awarded to the States of Alabama, Florida, Louisiana, Mississippi, and Texas. The information collection for both programs identifies the eligible recipients; describes proposed activities; determines an appropriate amount of funding; ensures compliance with the RESTORE Act, Treasury's regulations, and Federal laws and policies on grants; tracks grantee progress; and reports on the effectiveness of the programs.

Treasury's transition of both RESTORE Act programs to a new online grants management system will provide the benefit of conversion to more interactive forms, like web-based forms or editable PDFs. The collection has been updated to provide for this transition. Non-substantive changes for conversion to digital materials include the addition of fields for uploading optional or required supporting documentation and some general reformatting to improve the applicant's experience. Treasury has also made several substantive changes to the content of the collection, including: (1) A consolidation of application questions across forms to reduce requests for duplicative information; (2) updates to the RESTORE Act Environmental Compliance Form to provide applicants with the option to provide additional details regarding their determination of the applicability of federal, state, tribal, and local environmental laws to reduce the overall Treasury application review and processing time; and 3) the inclusion of the optional RESTORE Act Permission to Commence with Construction Checklist to aid the applicant in preparing a complete and compliant request for permission to commence with construction.

The revised application, reporting forms, and supplemental information may be obtained on Treasury's RESTORE Act website at https://home.treasury.gov/policy-issues/financial-markets-financial-institutions-and-fiscal-service/restore-act.

Form: None.

Affected Public: State and Local Governments.

Estimated Number of Respondents: 52.

Frequency of Response: On Occasion.

Estimated Total Number of Annual Responses: 550.

Estimated Time per Response: 10.9 hours.

Estimated Total Annual Burden Hours: 5,979.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Spencer W. Clark,
Treasury PRA Clearance Officer.

[FR Doc. 2022-11611 Filed 5-27-22; 8:45 am]

BILLING CODE 4810-25-P